DEPARTMENT OF THE INTERIOR

National Park Service

Notice of Inventory Completion for Native American Human Remains and Associated Funerary Objects in the Possession of the Phoebe A. Hearst Museum of Anthropology, University of California, Berkeley, Berkeley, CA

AGENCY: National Park Service, Interior.

ACTION: Notice.

Notice is hereby given in accordance with provisions of the Native American Graves Protection and Repatriation Act (NAGPRA), 43 CFR 10.9, of the completion of an inventory of human remains and associated funerary objects in the possession of the Phoebe A. Hearst Museum of Anthropology, University of California, Berkeley, Berkeley, CA.

This notice is published as part of the National Park Service’s administrative responsibilities under NAGPRA, 43 CFR 10.2 (c). The determinations within this notice are the sole responsibility of the museum, institution, or Federal agency that has control of these Native American human remains and associated funerary objects. The National Park Service is not responsible for the determinations within this notice.

An assessment of the human remains, and catalogue records and associated documents relevant to the human remains, was made by Phoebe A. Hearst Museum professional staff in consultation with the Mechoopda Indian Tribe of Chico Rancheria, California; Mooretown Rancheria of Maidu Indians of California; and the Round Valley Indian Tribes of the Round Valley Reservation, California.

In 1952, human remains representing at least one individual were removed during excavations at site CA-But-48, Butte County, CA, by Mr. and Mrs. A.B. Elsasser and J.A. Bennyhoff of the University of California, Berkeley, and were donated to the Phoebe A. Hearst Museum of Anthropology by Charles Collier the same year. No known individuals were identified. The 15 associated funerary objects are saddle olivella beads, whole olivella beads, and clamshell disc beads.

In 1956, human remains representing at least one individual were recovered during excavations at site CA-Teh-210, Tehama County, CA, by A.B. Elsasser and J.A. Bennyhoff of the University of California, Berkeley, and were accessioned into the Phoebe A. Hearst Museum of Anthropology the same year. No known individual was identified. The 89 funerary objects are clamshell disc beads, olivella beads, pine seed beads, and a steatite bead.

The presence of clamshell disk beads among the associated funerary objects from CA-But-48 and CA-Teh-210 indicate that both sites were occupied during the Protohistoric period, post-A.D. 1500. Archeological and linguistic evidence indicates that the Maidu peoples, represented by the Mechoopda Indian Tribe of Chico Rancheria, California; Mooretown Rancheria of Maidu Indians of California; and the Round Valley Indian Tribes of the Round Valley Reservation, California moved into north-central California by circa A.D. 1400.

Based on the above-mentioned information, officials of the Phoebe A. Hearst Museum of Anthropology have determined that, pursuant to 43 CFR 10.2 (d)(1), the human remains listed above represent the physical remains of at least two individuals of Native American ancestry. Officials of the Phoebe Hearst Museum of Anthropology also have determined that, pursuant to 43 CFR 10.2 (d)(2), the 104 objects listed above are reasonably believed to have been placed with or near individual human remains at the time of death or later as part of the death rite or ceremony. Lastly, officials of the Phoebe Hearst Museum of Anthropology have determined that, pursuant to 43 CFR 10.2 (e), there is a relationship of shared group identity that can be reasonably traced between these Native American human remains and associated funerary objects and the Mechoopda Indian Tribe of Chico Rancheria, California; Mooretown Rancheria of Maidu Indians of California; and the Round Valley Indian Tribes of the Round Valley Reservation, California.

This notice has been sent to officials of the Mechoopda Indian Tribe of Chico Rancheria, California; Mooretown Rancheria of Maidu Indians of California; and the Round Valley Indian Tribes of the Round Valley Reservation, California. Representatives of any other Indian tribe that believes itself to be culturally affiliated with these human remains and associated funerary objects should contact C. Richard Hitchcock, NAGPRA Coordinator, Phoebe A. Hearst Museum of Anthropology, University of California, Berkeley, Berkeley CA 94720, telephone (510) 642-6096, before July 19, 2002. Repatriation of the human remains and associated funerary objects to the Mechoopda Indian Tribe of Chico Rancheria, California; Mooretown Rancheria of Maidu Indians of California; and the Round Valley Indian Tribes of the Round Valley Reservation, California may begin after that date if no additional claimants come forward.

Dated: April 25, 2002.
Robert Stearns,
Manager, National NAGPRA Program.

[FR Doc. 02-12561 Filed 5-17-02; 8:45 am]

BILLING CODE 4310-70-S